DEPARTMENT OF AGRICULTURE

Forest Service

Craig Ranger District, Tongass National Forest; Alaska; Scratchings Timber Sale EIS

AGENCY: Forest Service, USDA.

ACTION: Notice of intent to prepare an Environmental Impact Statement.

SUMMARY: The USDA Forest Service, Craig Ranger District will prepare an Environmental Impact Statement (EIS) to consider a proposal to harvest timber from Suemez Island, located on the Craig Ranger District, Tongass National Forest in southeastern Alaska. The proposed action would harvest up to 40 MMBF of timber from approximately 5,000 acres. Approximately 16.5 miles of road construction is planned. About 3.5 miles of this road would be temporary construction.

DATES: Comments concerning the scope of the analysis should be received within 45 days from the date of this notice. The draft environmental impact statement is expected to be completed by October 31, 2005 and the final environmental impact statement is expected to be completed by March 31, 2006.

ADDRESSES: Send written comments to Planning Staff, Thorne Bay Ranger District, Attn: Scratchings Scoping; P.O. Box 19001; Thorne Bay, AK 99919-0001. Comments can also be faxed to 907-828-3309 or e-mailed to comments-alaska-tongass-thorne-bay@fs.fed.us, subject line: Scratchings scoping EIS comments.

FOR FURTHER INFORMATION CONTACT: Mail correspondence to Planning Staff, Thorne Bay Ranger District, Attn: Scratchings Scoping; P.O. Box 19001; Thorne Bay, AK 99919-0001. The Craig and Thorne Bay Ranger Districts are served by a single, zoned Planning Staff.

SUPPLEMENTARY INFORMATION: The proposed timber sale would occur on Suemez Island in southeastern Alaska. Suemez Island is located west of Prince of Wales Island and southwest of Craig, Alaska. The proposed project lies within Tongass National Forest Value Comparison Units 633, 634, 635, 636 and 637. Land Use Designations (LUD), for the project area, include Timber Production, Modified Landscape, Old-growth Habitat and Special Interest Areas. A few potential sale units may be located within the Inventoried Roadless Area #502. No timber harvest is planned in Old-growth Habitat or within the Special Interest Area.

Purpose and Need for Action

The purpose of and need for the Scratchings Timber Sale project is to provide timber harvest opportunities suitable for large and possibly small timber purchasers, mill operators and the value-added wood product industries in southeast Alaska in accordance with Forest Plan direction. The Forest Supervisor will decide whether or not to harvest timber from the Scratching Timber Sale project area, and if so, how this timber will be harvested. The decision will be based on the information that is disclosed in the Environmental Impact Statement. The responsible official will consider comments, responses, the disclosure of environmental consequences, as well as applicable laws, regulations, and policies in making the decision and will state that rationale in the Record of Decision. The Scratching Timber Sale would move the project area toward the desired condition described in the Tongass Land and Resource Management Plan (TLMP) or Forest Plan). The following Forest-wide goals and objectives as applied to the Scratchings Timber Sale project area include:

(1) Improve timber growth and productivity on suitable timber lands made abailable for timber harvest, and manage these lands for long-term sustained yield of timber.

(2) Contribute to a timber supply from the Tongass National Forest that seeks to meet annual and Forest Plan planning cycle market demand.

(3) Provide opportunities for local employment in the wood products industry that would in turn contribute to the local and regional economies of southeast Alaska.

Proposed Action

The Craig Ranger District is considering a proposal to harvest 25 to 40 million board-feet (MMBF) of timber from approximately 5,000 acres resulting in a variety of large and small timber sales. A combination of harvest methods may be used. Harvest prescriptions would be written to meet Forest Plan Standards and Guidelines. This will result in units with smaller openings and more partial-cut harvesting than has historically occurred within the Project Area. Approximately 16.5 miles of road construction is planned. About 3.5 miles of road would be temporary construction.

Public Participation

Public participation is an important part of the analysis process and will continue to be especially important at several points during the analysis. The USDA Forest Service will be seeking additional information. A legal notice for this project will be published in the newspaper of record in addition to this Notice of Intent. Publication is expected in the newspaper of record, The Juneau Empire, July 7, 2005. Written scoping comments are being solicited through the scoping letters that are anticipated to be mailed to individual and organizations on the Craig Ranger District public involvement list July 7, 2005. The scoping process includes the following: identification of potential issues; identification of issues to be analyzed in depth; and elimination of non-significant issues or those which have been covered by a previous environmental review. Alternatives including “No-Action” alternative will be developed for the Draft Environmental Impact Statement based on the results of scoping and resource capabilities within the project area. Subsistence hearings, as provided for in Title VIII, Section 810 of the Alaska National Interest Lands Conservation Act (ANILCA), are planned during the comment period on the Draft EIS. The comment period on the Draft Environmental Impact Statement will be 45 days from the date the Environmental Protection Agency published the notice of availability in the Federal Register.

Comment Requested

This notice of intent initiates the scoping process which guides the development of the environmental impact statement. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final Environmental Impact Statement. A Draft Environmental Impact Statement will be prepared for comment. To assist the Forest Service in identifying and considering issues and concerns on the proposed action, comments on the Draft Environmental Impact Statement should be as specific as possible. It is also helpful if comments refer to specific pages or chapters of the draft statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection. Comments submitted anonymously will be accepted and considered; however, those who submit anonymous comments will not have standing to appeal the subsequent decision pursuant to 36 CFR parts 215 or 217. Additionally, pursuant to 7 CFR 1.27(d), any person may require the agency to withhold submission from the public record by showing how the Freedom of Information Act (FOIA) permits such confidentiality. Requesters should be aware that under FOIA confidentiality maybe granted in only very limited circumstances; for example, to protect trade secrets. The Forest Service will inform the requester of the agency's decision regarding the request of confidentiality. The agency will return the submission and notify the requester that the comments may be resubmitted with or without name and address within seven days, should the request be is denied. To be more helpful and timely, scoping comments should be received within 45 days of the publication of this Notice of Intent.

Preliminary Issues

Based on preliminary analysis, we have developed two initial significant issues to be analyzed in the EIS: (1) Designing an economically viable timber sale that would benefit local communities in the form of additional employment opportunities and income; and (2) addressing cumulative impacts in the Port Dolores watershed from road building and timber harvest.

Possible Alternatives

In addition to a No Action alternative, three preliminary action alternatives have been developed. The three preliminary alternatives are (1) Timber harvest of approximately 40 MMBF from approximately 5,000 acres, maximizing harvest within TLMP Standards and Guidelines; (2) timber harvest of approximately 24 MMBF from approximately 931 acres, emphasizing development of economically viable timber sales; and (3) timber harvest of approximately 24 MMBF from approximately 983 acres, addressing cumulative impact to the Dolores watershed resulting from past harvest and road construction. The Old Growth (OGR) strategy will be considered in the various action alternatives.

Permits or Licenses Required

Permits required for implementation may include the following:

1. U.S. Army Corp of Engineers.

— Approval of discharge of dredged or fill material into the waters of the United States under Section 404 of the Clean Water Act.

— Approval of the construction of structures or work in navigable waters of the United States under Section 10 of the Rivers and Harbor Act of 1899.

2. Environmental Protection Agency.

— General National Pollutant Discharge Elimination System Permit for Log Transfer Facilities in Alaska.

— Spill Prevention Control and Countermeasure Plan.

3. State of Alaska, Department of Environmental Conservation.

— Tideland and Permit and Lease or Easement.

— Certification of Compliance with Alaska Water Quality Standards (401 Certification) Chapter 20.

4. Office of Project Management & Permitting (DNR).

— Coastal Zone Consistency Determination concurrence.

Responsible Official

Forest Cole, Forest Supervisor, Tongass National Forest; 648 Mission St., Federal Building; Ketchikan, AK 99901-6591 is the responsible official.

Nature of Decision To Be Made

The Forest Supervisor will decide whether or not to harvest timber from this area, and if so, how this timber would be harvested. The decision will be based on the information disclosed in the EIS, and the goals, objectives and desired future conditions as stated in the Forest Plan. The responsible official will consider the comments; response; disclosure of environmental consequences; and applicable laws, regulations and policies; in making the decision and stating the rational in the Record of Decision. Alternatives would be developed to meet the objectives and criteria for small old-growth reserves. Four of the five VCUs in the project area requires small old-growth reserves. The effect of past and future harvest activities, along with existing and planned transportation routes would be studies.

(Authority: 40 CFR 1501.7 and 1508.22; Forest Service Handbook 1909.15, Section 21.)

Dated: June 24, 2005.
Forrest Cole,
Forest Supervisor.

[FR Doc. 05-13218 Filed 7-5-05; 8:45 am]

BILLING CODE 3410-11-M